SECURITIES AND EXCHANGE COMMISSION

Sunshine Act Meeting Notice

Notice is hereby given, pursuant to the provisions of the Government in the Sunshine Act, Public Law 94-409, that the Securities and Exchange Commission will hold an Open Meeting on January 11, 2010 at 9:30 a.m., in the Auditorium, Room L-002, to hear oral argument in an appeal by Diane M. Keefe (“Keefe”), a former employee of Pax World Management Corp. (“Pax Management”), a registered investment adviser, from the decision of an administrative law judge. The law judge found that Keefe, a portfolio manager of the Pax World High Yield Fund (“Fund”), an investment company registered with the Commission and advised by Pax Management, willfully violated Section 34(b) of the Investment Company Act of 1940. The law judge suspended Keefe for twelve months from association with an investment adviser, broker, or dealer.

Among the issues likely to be argued are whether Keefe willfully violated Investment Company Act Section 34(b) and, if so, whether and to what extent sanctions should be imposed on her.

Commissioner Paredes, as duty officer, determined that no earlier notice thereof was possible.

At times, changes in Commission priorities require alterations in the scheduling of meeting items.

For further information and to ascertain what, if any, matters have been added, deleted or postponed, please contact:

The Office of the Secretary at (202) 551-5400.

Dated: January 5, 2010.
Florence E. Harmon,
Deputy Secretary.

[FR Doc. 2010-117 Filed 1-5-10; 4:15 pm]

BILLING CODE 8011-01-P